DEPARTMENT OF LABOR

Employment and Training Administration

Advisory Committee on Apprenticeship; virtual meeting

AGENCY: Employment and Training Administration (ETA), Labor.

ACTION: Notice of a virtual meeting.

SUMMARY: Pursuant to Section 10 of the Federal Advisory Committee Act (FACA) (Pub. L. 92-463; 5 U.S.C. APP. 1), notice is hereby given to announce a open virtual meeting of the Advisory Committee on Apprenticeship (ACA) on May 9-10, 2012, which will be held online at http://www.doleta.gov/oa/. The ACA is a discretionary committee established by the Secretary of Labor, in accordance with FACA, as amended 5 U.S.C., App. 2, and its implementing regulations (41 CFR 101-6 and 102-3). All meetings of the ACA are open to the public. A virtual meeting of the ACA provides cost savings and a greater degree of public participation and transparency.

DATES: The meeting will begin at approximately 1 p.m. Eastern Standard Time on Wednesday, May 9, 2012, and continues until approximately 5 p.m. The meeting will reconvene on Thursday, May 10, 2012, at approximately 1 p.m. Eastern Standard Time and adjourn at approximately 5 p.m.

FOR FURTHER INFORMATION CONTACT: The designated Federal Official, Mr. John V. Ladd, Administrator, Office of Apprenticeship, Employment and Training Administration, U.S. Department of Labor, 200 Constitution Avenue NW., Room N-5311, Washington, DC 20210. Telephone: (202) 693-2796, (this is not a toll-free number).

SUPPLEMENTARY INFORMATION: This virtual meeting will take place via webinar and audio-video conferencing technology. Web and audio instructions to participate in this meeting will be posted at http://www.doleta.gov/oa/.

Members of the public are encouraged to attend the meeting virtually. For members of the public wishing to attend in person, a listening room with limited seating will be made available upon request. The location for public attendees to attend will be: U.S. Department of Labor, Frances Perkins Building, 200 Constitution Avenue, NW., Washington, DC 20210. The agenda may be updated should priority items come before the Committee between the time of this publication and the scheduled date of the ACA meeting. For meeting updates please refer to http://www.doleta.gov/oa/. All meeting participants, whether attending virtually or in person, should submit a notice of intention to attend via email to John V. Ladd at oa.administrator@dol.gov, subject line “Virtual ACA Meeting.” The webinar will be limited to 200 participants, unless the Office of Apprenticeship receives more than 200 submissions to attended. If individuals have special needs and/or disabilities that will require special accommodations, please contact Kenya Huckaby on (202) 693-3795 no later than Wednesday, May 2, 2012, to request for arrangements to be made.

Any member of the public who wishes to file written data or comments pertaining to the agenda may do so by sending the data or comments to Mr. John V. Ladd, Administrator via email at oa.administrator@dol.gov, subject line “Virtual ACA Meeting,” or submitting to the Office of Apprenticeship, Employment and Training Administration, U.S. Department of Labor, Room N-5311, 200 Constitution Avenue NW., Washington, DC 20210. Such submissions must be received by Wednesday, May 2, 2012, to be included in the record for the meeting.

Purpose of the Meeting and Topics To Be Discussed

The purpose of the meeting is to consider several policy matters affecting Registered Apprenticeship programs. The meeting will primarily focus on planning for activities in support of the 75th Anniversary of the signing of National Apprenticeship Act of 1937, to include:

• Discussion of the nature, structure, location and date of a culminating event this summer;

• Planning for National Apprenticeship Month including tours of innovative and successful Registered Apprenticeship programs and partnerships (to be scheduled in advance of culminating event);

• Review of Trailblazer and Innovator submissions for the 21st Century Registered Apprenticeship Challenge.

Additional topics to be covered during the meeting include:

• Workgroup Report-Outs and Open Committee Discussion

• Regulatory Updates (as needed)

• Update on Veterans Opportunity to Work to Hire Heroes Act of 2011

• Other Matters of Interest to the Apprenticeship Community

• Public Comment

Any member of the public who wishes to speak at the meeting should indicate the nature of the intended presentation and the amount of time needed by furnishing a written statement to the Designated Federal Official, Mr. John V. Ladd, by Wednesday, May 2, 2012. The Chairperson will announce at the beginning of the meeting the extent to which time will permit the granting of such requests.

Signed at Washington, DC, this 13th day of April, 2012.
Jane Oates,
Assistant Secretary for the Employment and Training Administration.

[FR Doc. 2012-9430 Filed 4-18-12; 8:45 am]

BILLING CODE 4510-FR-P